DEPARTMENT OF TRANSPORTATION

Federal Aviation Administration

14 CFR Part 39

[Docket No. FAA-2007-27741; Directorate Identifier 2006-NM-261-AD]

RIN 2120-AA64

Airworthiness Directives; Airbus Model A330-201, -202, -203, -223, -243, -301, -321, -322, -323, -341, -342, and -343 Airplanes; and Model A340-200 and -300 Series Airplanes

AGENCY: Federal Aviation Administration (FAA), Department of Transportation (DOT).

ACTION: Notice of proposed rulemaking (NPRM).

SUMMARY: We propose to adopt a new airworthiness directive (AD) for the products listed above. This proposed AD results from mandatory continuing airworthiness information (MCAI) issued by an aviation authority of another country to identify and correct an unsafe condition on an aviation product. The MCAI describes the unsafe condition as keel beam rupture, which affects the structural integrity of the area. The proposed AD would require actions that are intended to address the unsafe condition described in the MCAI.

DATES: We must receive comments on this proposed AD by April 30, 2007.

ADDRESSES: You may send comments by any of the following methods:

• DOT Docket Web Site: Go to http://dms.dot.gov and follow the instructions for sending your comments electronically.

• Fax: (202) 493-2251.

• Mail: Docket Management Facility, U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: http://www.regulations.gov. Follow the instructions for submitting comments.

Examining the AD Docket

You may examine the AD docket on the Internet at http://dms.dot.gov; or in person at the Docket Management Facility between 9 a.m. and 5 p.m., Monday through Friday, except Federal holidays. The AD docket contains this proposed AD, the regulatory evaluation, any comments received, and other information. The street address for the Docket Office (telephone (800) 647-5227) is in the ADDRESSES section. Comments will be available in the AD docket shortly after receipt.

FOR FURTHER INFORMATION CONTACT: Tim Backman, Aerospace Engineer, International Branch, ANM-116, FAA, Transport Airplane Directorate, 1601 Lind Avenue, SW., Renton, Washington 98057-3356; telephone (425) 227-2797; fax (425) 227-1149.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This proposed AD references the MCAI and related service information that we considered in forming the engineering basis to correct the unsafe condition. The proposed AD contains text copied from the MCAI and for this reason might not follow our plain language principles.

Comments Invited

We invite you to send any written relevant data, views, or arguments about this proposed AD. Send your comments to an address listed under the ADDRESSES section. Include “Docket No. FAA-2007-27741; Directorate Identifier 2006-NM-261-AD” at the beginning of your comments. We specifically invite comments on the overall regulatory, economic, environmental, and energy aspects of this proposed AD. We will consider all comments received by the closing date and may amend this proposed AD because of those comments.

We will post all comments we receive, without change, to http://dms.dot.gov, including any personal information you provide. We will also post a report summarizing each substantive verbal contact we receive about this proposed AD.

Discussion

The European Aviation Safety Agency (EASA), which is the Technical Agent for the Member States of the European Community, has issued EASA Airworthiness Directive 2006-0315, dated October 13, 2006 (referred to after this as “the MCAI”), to correct an unsafe condition for the specified products. The MCAI states that during the A330 and A340 aircraft fatigue test, cracks appeared on the right and left sides between the crossing area of the keel beam fitting and the front spar on the center wing box (CWB). This situation if not corrected can lead in the worst case to keel beam rupture, which affects the structural integrity of the area. In order to maintain the structural integrity of the aircraft, the MCAI requires a repetitive special detailed inspection on the horizontal flange of the keel beam in the area of the first fastener hole aft of FR (frame) 40, follow-up actions (further inspections, installation of new fasteners, and sealing the fasteners), and repair if necessary. You may obtain further information by examining the MCAI in the AD docket.

Relevant Service Information

Airbus has issued Service Bulletin A330-57-3081, including Appendix 01, Revision 02, dated January 24, 2006; and Service Bulletin A340-57-4089, including Appendix 01, Revision 02, dated January 24, 2006. The actions described in this service information are intended to correct the unsafe condition identified in the MCAI. The compliance times for doing the actions described in the service bulletins are as follows:

• Service Bulletin A330-57-3081: The mandatory thresholds range from the earlier of 19,100 flight cycles or 57,300 flight hours, to the earlier of 24,200 flight cycles or 72,800 flight hours; the repetitive intervals range from the earlier of 9,800 flight cycles or 29,400 flight hours, to the earlier of 13,500 flight cycles or 40,500 flight hours.

• Service Bulletin A340-57-4089: The mandatory thresholds range from the earlier of 19,000 flight cycles or 95,000 flight hours, to the earlier of 24,600 flight cycles or 49,200 flight hours; the repetitive intervals range from the earlier of 9,200 flight cycles or 46,000 flight hours, to the earlier of 12,600 flight cycles or 63,000 flight hours.

FAA's Determination and Requirements of This Proposed AD

This product has been approved by the aviation authority of another country, and is approved for operation in the United States. Pursuant to our bilateral agreement with the State of Design Authority, they have notified us of the unsafe condition described in the MCAI and service information referenced above. We are proposing this AD because we evaluated all information provided by the State of Design Authority and determined the unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are described in a separate paragraph of the proposed AD. These requirements, if ultimately adopted, will take precedence over the actions copied from the MCAI.

Costs of Compliance

Based on the service information, we estimate that this proposed AD would affect about 9 products of U.S. registry. We also estimate that it would take about 12 work-hours per product to comply with the basic requirements of this proposed AD. The average labor rate is $80 per work-hour. Required parts would cost about $382 per product. Where the service information lists required parts costs that are covered under warranty, we have assumed that there will be no charge for these costs. As we do not control warranty coverage for affected parties, some parties may incur costs higher than estimated here. Based on these figures, we estimate the cost of the proposed AD on U.S. operators to be $12,078, or $1,342 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2007-27741; Directorate Identifier 2006-NM-261-AD.

Comments Due Date

(a) We must receive comments by April 30, 2007.

Affected ADs

(b) None.

Applicability

(c) This AD applies to the airplanes identified in paragraphs (c)(1) and (c)(2) of this AD; certificated in any category; except as provided by paragraph (c)(3) of this AD.

(1) Airbus Model A330-201, -202, -203, -223, -243, -301, -321, -322, -323, -341, -342, and -343 airplanes, all serial numbers, except those on which Airbus modification 49202 has been embodied in production, or Airbus Service Bulletin A330-57-3090 has been embodied in service.

(2) Airbus Model A340-200 and -300 series airplanes, all certified models, all serial numbers, except those on which Airbus modification 49202 has been embodied in production or Airbus Service Bulletin A340-57-4098 has been embodied in service.

(3) This AD does not apply to Model A340-200 and -300 series airplanes repaired in accordance with Airbus Repair Drawing R57115053, R57115051, or R57115047 (installation of titanium doubler). These airplanes are covered by European Aviation Safety Agency (EASA) AD 2006-0314. (The FAA is considering rulemaking regarding EASA AD 2006-0314.)

Reason

(d) The mandatory continuing airworthiness information (MCAI) states that during the A330 and A340 fatigue test, cracks appeared on the right and left sides between the crossing area of the keel beam fitting and the front spar on the center wing box (CWB). This situation if not corrected can lead in the worst case to keel beam rupture which affects the structural integrity of the area. In order to maintain the structural integrity of the aircraft, the MCAI requires a repetitive special detailed inspection on the horizontal flange of the keel beam in the area of the first fastener hole aft of FR (frame) 40, follow-up actions, and repair if necessary.

Actions and Compliance

(e) Unless already done, do the following actions.

(1) Within the mandatory threshold (flight cycles or flight hours) mentioned in the paragraph 1.E.(2) of Airbus Service Bulletin A340-57-4089, Revision 02; or A330-57-3081, Revision 02; both dated January 24, 2006, depending on the configuration of the aircraft model; or within 3 months after the effective date of this AD; whichever occurs later: Carry out the NDT (non-destructive test) inspection of the hole(s) of the horizontal flange of the keel beam located on FR (frame) 40 datum on RH (right-hand) and/or LH (left-hand) side of the fuselage, in accordance with the instructions of Airbus Service Bulletin A340-57-4089, Revision 02; or A330-57-3081, Revision 02; as applicable. Inspection in accordance with Airbus Technical Disposition Ref F57D03012810, Issue B, dated August 18, 2003, or 582.0651/2002, Issue A, dated October 17, 2002, satisfies the inspection requirements for the first rotating probe inspection which is specified at the inspection threshold of this AD.

Note 1: In order to prevent large repairs or heavy maintenance, Airbus recommends to perform the above inspection according to recommended thresholds mentioned in paragraph 1.E.(2) of Airbus Service Bulletin A340-57-4089, Revision 02; or Airbus Service Bulletin A330-57-3081, Revision 02; both dated January 24, 2006.

(2) In case of any crack finding, before further flight, contact Airbus in order to get repair instructions before next flight, and repair before further flight.

(3) Should no crack be detected:

(i) Before further flight: Follow up the actions indicated in the flow charts, figure 7, 8, or 9, of Airbus Service Bulletin A340-57-4089, including Appendix 01, Revision 02, dated January 24, 2006; or figure 5, 6, or 7, of Airbus Service Bulletin A330-57-3081, including Appendix 01, Revision 02, dated January 24, 2006; in accordance with the instructions of the applicable service bulletin.

(ii) Within 30 days after the effective date of this AD, or within 30 days after doing the inspection required by paragraph (e)(1) of this AD, whichever occurs later: Send the report of actions carried out in paragraph (e)(3)(i) of this AD to Airbus.

(iii) Renew the inspection at mandatory intervals given in paragraph 1.E.(2) of Airbus Service Bulletin A340-57-4089, Revision 02, dated January 24, 2006; or Airbus Service Bulletin A330-57-3081, Revision 02, dated January 24, 2006; as applicable; in accordance with the instructions of Service Bulletin A340-57-4089, Revision 02, or Service Bulletin A330-57-3081, Revision 02; as applicable, and send the inspection results to Airbus.

Note 2: In order to prevent large repairs or heavy maintenance, Airbus recommends to perform the above repetitive inspection according to recommended intervals mentioned in paragraph 1.E.(2) of Airbus Service Bulletin A340-57-4089, Revision 02, dated January 24, 2006; or Airbus Service Bulletin A330-57-3081, Revision 02, dated January 24, 2006.

(4) Upon detection of a crack during a repetitive inspection, before further flight, contact Airbus to get repair instructions, and repair before further flight.

(5) No additional work is required for aircraft inspected in accordance with the instructions of Airbus Service Bulletin A330-57-3081, dated October 30, 2003, or Revision 01, dated May 18, 2004; or Airbus Service Bulletin A340-57-4089, dated October 30, 2003, or Revision 01, dated March 2, 2004. Nevertheless, the operators must check that their inspection program is in accordance with paragraph 1.E.(2) of Airbus Service Bulletin A340-57-4089, Revision 02, dated January 24, 2006; or Airbus Service Bulletin A330-57-3081, Revision 02, dated January 24, 2006, for the repetitive inspection.

FAA AD Differences

Note: This AD differs from the MCAI and/or service information as follows:

(1) The MCAI did not have a required action if cracks are found during a repetitive inspection. This AD requires contacting Airbus for repair instructions before further flight.

Other FAA AD Provisions

(f) The following provisions also apply to this AD:

(1) Alternative Methods of Compliance (AMOCs): The Manager, ANM-116, Transport Airplane Directorate, FAA, ATTN: Tim Backman, Aerospace Engineer, 1601 Lind Avenue, SW., Renton, Washington 98057-3356, has the authority to approve AMOCs for this AD, if requested using the procedures found in 14 CFR 39.19. Before using any AMOC approved in accordance with § 39.19 on any airplane to which the AMOC applies, notify the appropriate principal inspector in the FAA Flight Standards Certificate Holding District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(g) Refer to MCAI EASA Airworthiness Directive 2006-0315, dated October 13, 2006; Airbus Service Bulletin A340-57-4089, Revision 02, dated January 24, 2006; and Airbus Service Bulletin A330-57-3081, Revision 02, dated January 24, 2006; for related information.

Issued in Renton, Washington, on March 23, 2007.
Ali Bahrami,
Manager, Transport Airplane Directorate, Aircraft Certification Service.

[FR Doc. E7-5909 Filed 3-29-07; 8:45 am]

BILLING CODE 4910-13-P